FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 14, 2020.

A. Federal Reserve Bank of Dallas (Robert L. Triplett III, Senior Vice President) 2200 North Pearl Street, Dallas, Texas 75201-2272:

1. Lee Perry Mann, individually, as manager of Perrylee Enterprises, Ltd., and as trustee of the LPM Legacy Trust, all of Woodville, Texas; to acquire voting shares of Security Bancshares, Inc., Waco, Texas and thereby indirectly acquire voting shares of Citizens State Bank, Woodville, Texas, and to join Laurie Fortenberry Mann, Woodville, Texas, individually and as trustee of the LPM Legacy Trust, as a group acting in concert.

B. Federal Reserve Bank of Kansas City (Dennis Denney, Assistant Vice President) 1 Memorial Drive, Kansas City, Missouri 64198-0001:

1. Katherine Rose Rainbolt, Sarah Duston Rainbolt, Caroline Jeannine Rainbolt-Forbes, and Eleanor Jane Rainbolt-Forbes, all of Denver, Colorado; to become members of the Rainbolt Family Group and acquire voting shares of BancFirst Corporation, Oklahoma City, Oklahoma, and thereby indirectly acquire voting shares of BancFirst, Oklahoma City, Oklahoma, and Pegasus Bank, Dallas, Texas.

Board of Governors of the Federal Reserve System, March 25, 2020.
Yao-Chin Chao,
Assistant Secretary of the Board.

[FR Doc. 2020-06572 Filed 3-27-20; 8:45 am]

BILLING CODE 6210-01-P